DEPARTMENT OF ENERGY

Federal Energy Regulatory Commission

Combined Notice of Filings #1

Take notice that the Commission received the following electric rate filings:

Docket Numbers: ER18-137-003.

Applicants: PJM Interconnection, L.L.C.

Description: Tariff Amendment: Amendment to ER18-137 re:MISO-PJM JOA and Overlapping Congestion Charges to be effective 8/1/2018.

Filed Date: 5/31/18.

Accession Number: 20180531-5371.

Comments Due: 5 p.m. ET 6/21/18.

Docket Numbers: ER18-1711-000.

Applicants: Indiana Michigan Power Company, PJM Interconnection, L.L.C.

Description: § 205(d) Rate Filing: AEP submits ILDSA, Service Agreement No. 1262 and Meridan Facilities Agreement to be effective 5/1/2018.

Filed Date: 5/31/18.

Accession Number: 20180531-5366.

Comments Due: 5 p.m. ET 6/21/18.

Docket Numbers: ER18-1712-000.

Applicants: Pacific Gas and Electric Company.

Description: § 205(d) Rate Filing: May 2018 Western Interconnection Agreement Biannual Filing to be effective 8/1/2018.

Filed Date: 5/31/18.

Accession Number: 20180531-5379.

Comments Due: 5 p.m. ET 6/21/18.

Docket Numbers: ER18-1713-000.

Applicants: Pacific Gas and Electric Company.

Description: § 205(d) Rate Filing: May 2018 Western WDT Service Agreement Biannual Filing to be effective 8/1/2018.

Filed Date: 5/31/18.

Accession Number: 20180531-5384.

Comments Due: 5 p.m. ET 6/21/18.

Docket Numbers: ER18-1714-000.

Applicants: New England Power Pool Participants Committee.

Description: § 205(d) Rate Filing: June 2018 Membership Filing to be effective 5/1/2018.

Filed Date: 6/1/18.

Accession Number: 20180601-5002.

Comments Due: 5 p.m. ET 6/22/18.

Docket Numbers: ER18-1715-000.

Applicants: NorthWestern Corporation.

Description: § 205(d) Rate Filing: SA 296 4th Rev—Unexecuted NITSA with Exxon Mobil Corporation to be effective 8/1/2018.

Filed Date: 6/1/18.

Accession Number: 20180601-5003.

Comments Due: 5 p.m. ET 6/22/18.

Docket Numbers: ER18-1717-000.

Applicants: PJM Interconnection, L.L.C.

Description: § 205(d) Rate Filing: Original WMPA SA No. 5090; Queue No. AC1-209 to be effective 5/2/2018.

Filed Date: 6/1/18.

Accession Number: 20180601-5025.

Comments Due: 5 p.m. ET 6/22/18.

Docket Numbers: ER18-1718-000.

Applicants: The United Illuminating Company.

Description: Petition of The United Illuminating Company for Waiver of Tariff Provisions, et al.

Filed Date: 5/31/18.

Accession Number: 20180531-5406.

Comments Due: 5 p.m. ET 6/7/18.

Docket Numbers: ER18-1719-000.

Applicants: Central Maine Power Company.

Description: Petition of Central Maine Power Company for Waiver of Tariff Provisions, et al.

Filed Date: 5/31/18.

Accession Number: 20180531-5410.

Comments Due: 5 p.m. ET 6/7/18.

Docket Numbers: ER18-1720-000.

Applicants: Midcontinent Independent System Operator, Inc.

Description: Notification of Tariff Discrepancy and Request for Limited Tariff Waiver of Midcontinent Independent System Operator, Inc.

Filed Date: 5/31/18.

Accession Number: 20180531-5418.

Comments Due: 5 p.m. ET 6/21/18.

Docket Numbers: ER18-1721-000.

Applicants: Entergy Arkansas, Inc., Entergy Louisiana, LLC, Entergy New Orleans, LLC, Entergy Mississippi, Inc., Entergy Texas, Inc.

Description: Request for Temporary and Limited Waiver of Tariff Provisions of Entergy Arkansas, Inc., et al.

Filed Date: 5/31/18.

Accession Number: 20180531-5419.

Comments Due: 5 p.m. ET 6/21/18.

Docket Numbers: ER18-1722-000.

Applicants: Emera Maine, Central Maine Power Company, Maine Electric Power Company, New Hampshire Transmission, LLC, New England Power Company, The Connecticut Light and Power Company, NSTAR Electric Company, Public Service Company of New Hampshire, The United Illuminating Company, Unitil Energy Systems, Inc., Fitchburg Gas and Electric Light Company, Vermont Transco, LLC.

Description: Petition of the Indentified Participating Transmission Owners for Limited Waiver of Tariff Provisions, et al.

Filed Date: 5/31/18.

Accession Number: 20180531-5420.

Comments Due: 5 p.m. ET 6/7/18.

Docket Numbers: ER18-1723-000.

Applicants: New Hampshire Transmission, LLC.

Description: Petition of New Hampshire Transmission, LLC for Waiver of Tariff Provisions, et al.

Filed Date: 5/31/18.

Accession Number: 20180531-5425.

Comments Due: 5 p.m. ET 6/7/18.

Docket Numbers: ER18-1724-000.

Applicants: Midcontinent Independent System Operator, Inc.

Description: § 205(d) Rate Filing: 2018-06-01_SA 3116 ATC-Wisconsin Power and Light PCA (Hawk) to be effective 8/1/2018.

Filed Date: 6/1/18.

Accession Number: 20180601-5146.

Comments Due: 5 p.m. ET 6/22/18.

Docket Numbers: ER18-1725-000.

Applicants: Midcontinent Independent System Operator, Inc.

Description: § 205(d) Rate Filing: 2018-06-01_SA 3117 ATC-Wisconsin Power and Light PCA (Schofield) to be effective 8/1/2018.

Filed Date: 6/1/18.

Accession Number: 20180601-5148.

Comments Due: 5 p.m. ET 6/22/18.

Docket Numbers: ER18-1726-000.

Applicants: Mineral Point Energy LLC.

Description: Tariff Cancellation: Mineral Point Energy LLC Cancellation of MBR Tariff to be effective 6/1/2018.

Filed Date: 6/1/18.

Accession Number: 20180601-5152.

Comments Due: 5 p.m. ET 6/22/18.

Docket Numbers: ER18-1727-000.

Applicants: Niles Valley Energy LLC.

Description: Tariff Cancellation: Niles Valley Energy LLC Cancellation of MBR Tariff to be effective 6/1/2018.

Filed Date: 6/1/18.

Accession Number: 20180601-5153.

Comments Due: 5 p.m. ET 6/22/18.

Docket Numbers: ER18-1730-000.

Applicants: PJM Interconnection, L.L.C.

Description: § 205(d) Rate Filing: Revisions to the OATT and OA re: Overlapping Congestion Filing Phase II to be effective 8/1/2018.

Filed Date: 6/1/18.

Accession Number: 20180601-5216.

Comments Due: 5 p.m. ET 6/22/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 1, 2018.
Nathaniel J. Davis, Sr.,
Deputy Secretary.

[FR Doc. 2018-12240 Filed 6-6-18; 8:45 am]

BILLING CODE 6717-01-P